DEPARTMENT OF ENERGY

Federal Energy Regulatory Commission

[Project No. 2183-023, Oklahoma]

Grand River Dam Authority; Notice of Availability of Environmental Assessment

October 4, 2000.

An environmental assessment (EA) is available for public revivew. The EA analyzes the environmental impacts of Grand River Dam Authority's (GRDA) application to grant a permit to Mike Sisemore (applicant) to install 2 boat docks with 38 slips in Lake Hudson, the reservoir for the Markham Ferry Hydroelectric Project. GRDA's proposed permit would also allow the applicant to dredge about 25,000 cubic yards of sediment to improve boat access from the docks to Lake Hudson. The Markham Ferry Project is on the Grand (Nesho) River in Mayes County, Oklahoma.

The EA was written by staff in the Office of Energy Projects, Federal Energy Regulatory Commission. In the EA, Commission staff conclude that approving GRDA's application to grant the permit would not constitute a major federal action significantly affecting the quality of the human environment. Copies of the EA can be viewed on the web at www.ferc.fed.us/online/rims.htm. Call (202) 208-2222 for assistance. Copies are also avaiable for inspection and reproduction at the Commission's Public Reference Room, located at 888 First Street, NE., Room 2A, Washington DC 20426, or by calling (202) 208-1371.

Linwood A. Watson, Jr.,
Acting Secretary.

[FR Doc. 00-26061 Filed 10-10-00; 8:45 am]

BILLING CODE 6717-01-M